OCCUPATIONAL SAFETY AND HEALTH REVIEW COMMISSION

Privacy Act of 1974; New and Revised Systems of Records, and Deletion of a Duplicative System of Records

AGENCY: Occupational Safety and Health Review Commission.

ACTION: Notice.

SUMMARY: In accordance with the Privacy Act of 1974, 5 U.S.C. 552a, as amended, the Occupational Safety and Health Review Commission (OSHRC) is proposing in this notice the addition of a new system of records; the bifurcation of an existing system of records; the deletion of a duplicative system of records; and revisions to preexisting systems of records, including the addition of new routine uses.

DATES: Comments must be received by the OSHRC by May 15, 2006. The new and revised systems of records will become effective on June 13, 2006, without any further notice in the Federal Register, unless comments or government approval procedures necessitate otherwise.

ADDRESSES: The Commission will accept and consider all written comments. Submit any written comments by mail or fax to Ron Bailey, Attorney Advisor, Office of General Counsel, OSHRC, 1120 20th Street, NW., Ninth Floor, Washington, DC 20036-3457; Fax Number, (202) 606-5417.

FOR FURTHER INFORMATION CONTACT: Ron Bailey, Attorney Advisor, Office of General Counsel, (202) 606-5410, rbailey@oshrc.gov.

SUPPLEMENTARY INFORMATION: The Privacy Act of 1974, 5 U.S.C. 552a(e)(4), requires federal agencies such as OSHRC to propose additions and revision to its systems of records in a Federal Register publication. As detailed below, OSHRC is proposing the addition of a new system of records; the bifurcation of an existing system of records; the deletion of a duplicative system of records; and revisions to preexisting systems of records, including the addition of new routine uses. OSHRC is also proposing changes, both superficial and substantive, to its blanket routine uses.

I. Blanket Routine Uses

OSHRC's current Blanket Routine Uses (BRUs) are published in 66 FR 42689 (Aug. 14, 2001). OSHRC proposes the following changes to its BRUs.

In the sentence preceding the list of BRUs, OSHRC would add the qualification that records will be disclosed as a routine use only if “disclosure of the record or information is compatible with the purpose for which the record or information was collected.” As the definition of “routine use” includes this compatibility requirement, see 5 U.S.C. 552a(a)(7), it should apply to all BRUs.

For the purpose of streamlining the notice, OSHRC would combine BRUs 1 and 2. Despite the merger, the categories of users and the purposes for using any disclosed records would remain the same. OSHRC would reword the first sentence of BRU 3 to clarify the scope of the routine use, but again, the categories of users and the purposes for using any disclosed records would not change. OSHRC would broaden BRUs 4 and 5 to include records relevant to OSHRC decisions concerning appointment of employees, suspension or revocation of security clearances, and the execution of security or suitability investigations. The current versions of these BRUs include decisions concerning the hiring or retention of employees, and the issuance of security clearances, but fail to reference the related areas of decision-making noted above.

OSHRC would add a sentence to the end of BRU 6, notifying the reader that “[r]ecords will be disclosed only to the extent that the information is relevant and necessary to the case or matter.” OSHRC would add a similar qualification to BRU 8. These qualifications reflect the importance of protecting an individual's records from unnecessary disclosures. Moreover, the Privacy Act could be read to require that disclosure, pursuant to a routine use, may occur only when relevant and necessary to accomplish a mandated purpose: Section 552a(e)(1) instructs an agency to “maintain in its records only such information about an individual as is relevant and necessary to accomplish a purpose of the agency required to be accomplished by statute or by executive order of the President”; because the Privacy Act defines “maintain” as including “maintain, collect, use, or disseminate,” the requirement stated in (e)(1) seemingly applies to the dissemination of records via routine uses.

OSHRC would edit the language in BRU 10 to more precisely reflect when records may be disclosed. The BRU would also be modified to require written requests from the subjects of the records. Also, OSHRC would modify BRU 12 to reflect that, pursuant to 44 U.S.C. 2904 and 2906, the National Archives and Records Administration (NARA) handles records management inspections.

Finally, OSHRC would renumber BRUs 1 and 2 as BRU 1, decrease BRU 3 through BRU 10 by one in number, and renumber BRU 12 as BRU 10. OSHRC would also makes several minor changes in wording, such as exclusively using “OSHRC,” rather than referring to OSHRC as both “the Review Commission” and “OSHRC.”

II. Deleted System of Records

In accordance with the directive of Office of Management and Budget (OMB) Circular No. A-130, OSHRC proposes deleting the system of records, “Applications for Employment,” OSHRC-3, because such records are covered by the Office of Personnel Management's (OPM's) government-wide system of records, “Recruiting, Examining and Placement Records,” OPM/GOVT-5, 61 FR 36929, July 15, 1996. These records are exempted as claimed in 5 CFR 297.501(b)(7).

III. New and Revised Systems of Records

OSHRC conducted a review of the systems of records that it presently maintains. OSHRC's review uncovered one system of records—a visitors' log—that is not included in OSHRC current system-of-records notice. OSHRC proposes creating a new system for these records and designating it as OSHRC-9. OSHRC also proposes creating a separate system for public transportation benefit records, which presently are part of the system “Payroll and Related Records,” and designating it as OSHRC-3.

OSHRC proposes the following general revisions to preexisting systems of records. First, OSHRC would revise the system locations and system managers in the notice to reflect changes in office names and position titles and, where appropriate, to make reference to OSHRC's offices in Atlanta, Georgia, and Denver, Colorado. Second, having reviewed the authority for maintaining each system, OSHRC would make various changes that mostly consist of citing additional authority or a more specific provision, or modifying a citation to reflect that the provision has been renumbered or superseded. Third, OSHRC would modify the explanations for notification, record access, and contesting record procedures to include citations to the relevant regulatory provisions. Fourth, as to each system of records in the notice, OSHRC would add the section, “Security Classification,” and note that the security classification for each system of records is “none.” Adding this section to each system would standardize the data elements included in the notice, as the section is already included in the latest notice covering systems OSHRC-7 and OSHRC-8, see 70 FR 68479, Nov. 10, 2005. Fifth, OSHRC would modify retention and disposal policies to be in accordance with NARA's General Records Schedule (GRS) requirements. Finally, OSHRC would correct various grammatical errors and reword sentences for clarification. In addition to these general revisions, OSHRC is also proposing changes to other matters in each preexisting system of records that warrant more detailed explanations.

As to “Travel Records,” OSHRC-1, OSHRC proposes the following changes. First, OSHRC would use more precise language and provide additional details in order to clarify the categories of individuals covered by the system of records and the records included therein. Second, OSHRC would modify the “purpose” section to include “planning, authorizing, and tracking employees’ official travel, and processing travel vouchers and other travel-related payments.” Third, OSHRC would delete the routine use that authorizes disclosure of records to “agency employees for budget preparation purposes” because the routine-use exception, section 552a(b)(3), was not intended to include intra-agency disclosures, see OMB Guidelines, 40 FR 56741, 56742, December 4, 1975. Rather, such disclosures are covered by section 552a(b)(1), which pertains to disclosures to employees “who have a need for the record in the performance of their duties.” Fourth, OSHRC would delete the routine use authorizing disclosure of records to “Members of Congress in their oversight capacity,” because this use is covered by section 552a(b)(10), and to the extent that section 552a(b)(10) does not apply to specific Members of Congress, this routine use is covered by BRU 10 (BRU 9 in the proposed notice). Finally, OSHRC would delete the routine use that authorizes disclosure “to other agencies, as appropriate,” because this use is probably too broad, and it is doubtful that “as appropriate” constitutes a permissible purpose, see Britt v. Naval Investigative Service, 886 F.2d 544, 547 (3d Cir. 1989).

As to “Lists for News Releases, Speeches, Booklets, Reports,” OSHRC-2, OSHRC proposes the following changes. OSHRC would delete the routine use authorizing disclosure of records “[t]o agency employees for information dissemination,” as this use is covered by section 552a(b)(1). OSHRC would modify the routine use authorizing disclosure of records “to other agencies, as appropriate,” to require a written request, and to limit disclosure to instances that are “compatible with the purpose for which the record or information was collected.”

As to “Payroll and Related Records,” OSHRC-4, OSHRC proposes the following changes. First, OSHRC would provide additional details about what categories of records are included in this system. The current notice merely lists documents without specifying what personal identifying information is included therein. Second, OSHRC would add a variety of routine uses, including disclosure of records to the U.S. Department of Agriculture, National Finance Center (NFC), the entity with which OSHRC has contracted to provide various payroll services; disclosure of records to other agencies pursuant to various debt collection and computer matching statutes that have been enacted over the last couple decades; disclosure of records (via NFC) to certain federal agencies and other relevant entities for purposes of maintaining records on issues related to taxes and benefits; and disclosure of records to the Office of Child Support Enforcement, Administration for Children and Families, Department of Health and Human Services, as required by the Personal Responsibility and Work Opportunity Reconciliation Act of 1996, 42 U.S.C. 653(n). As to this last routine use, OSHRC would adopt the language recommended by OMB in “Privacy Act Responsibilities for Implementing the Personal Responsibility and Work Opportunity Reconcilation Act of 1996,” Nov. 3, 1997, available at http://www.whitehouse.gov/omb/inforeg/katzen_prwora.pdf. Third, OSHRC would revise the explanation of how records are stored, noting that records submitted electronically to NFC are backed up on a floppy disk, which is stored with the paper records. Finally, OSHRC would provide additional details pertaining to the safeguarding of records, explaining how records located on personal computers are protected, and how records regarding OSHRC employees are maintained by NFC.

As to “Cases Pending in General Counsel's Office,” OSHRC-5, OSHRC proposes the following changes. First, OSHRC would rename the system “Office of the General Counsel Records,” as this better reflects the various records that this system includes. Second, OSHRC would expand the categories of individuals covered by this system because some of the records maintained by OGC's Office include references to Commissioners, Administrative Law Judges, FOIA requesters, and parties to OSHRC cases, in addition to the categories of individuals mentioned in the current notice. Third, OSHRC would include additional records in this system to account for work product maintained by attorney advisors and supervisors on personal computers and information related to FOIA requests, as well as other unforeseen legal matters that may require OGC's Office to maintain personal identifiable information. Fourth, OSHRC would revise the purpose of this system to reflect the variety of matters handled by OGC's Office and to account for staff members' use of personal computers to organize their work product. Fifth, OSHRC would delete the routine uses that pertain to intra-agency disclosures because, as previously mentioned, such disclosures are covered by section 552a(b)(1). Finally, OSHRC would revise its policy for storage, retention and disposal, and safeguarding to reference the additional records that OSHRC proposes including in this system.

As to “Case Management/Tracking System,” OSHRC-6, OSHRC proposes the following changes. First, in addition to records in the electronic tracking system, OSHRC would include the original case files and various lists used for administrative purposes in the system of records. Also, OSHRC would revise the notice to reflect that the Executive Secretary's Office maintains many of these files. Second, OSHRC would revise the categories of individuals covered by this system to include parties in cases that have been, or presently are, before OSHRC, in addition to Commission members, ALJs, and representatives participating in those cases. OSHRC would also omit information that is irrelevant to which categories of individuals are covered by the system. Third, OSHRC would list the categories of records that are currently maintained in the case tracking system, some of which are included in the current notice, and would also include the categories of records maintained by the Executive Secretary's Office. Fourth, OSHRC would revise the “purpose” section of the notice to explain that the records in this system are maintained for the purpose of processing OSHRC cases. Fifth, OSHRC would delete the routine uses that pertain to intra-agency disclosures because, as previously mentioned, such disclosures are covered by section 552a(b)(1). Also, OSHRC would add routine uses authorizing disclosure of records to a bar association or similar federal, state, or local licensing authority for a possible disciplinary action; and, in accordance with 29 U.S.C. 661(g), disclosure of records to the public for the purpose of inspecting and/or copying the records. Sixth, OSHRC would revise its storage and safeguarding policies to reflect that paper case files are maintained in a room protected by smartcard technology, and that the Executive Secretary's Office may maintain some records on personal computers. Seventh, OSHRC would revise the notice to describe the various methods by which electronic records can be retrieved using the case tracking system because the description in the current notice is no longer accurate. Finally, OSHRC would explain how records maintained by the Executive Secretary's Office are retrieved.

OSHRC's proposed BRUs and systems of records are published in their entirety below.

Table of Contents

Government-Wide System-of-Records Notices

Blanket Routine Uses

OSHRC-1 Travel Records

OSHRC-2 Mailing Lists for News Releases, Speeches, Booklets, Reports

OSHRC-3 Public Transportation Benefit Program Records

OSHRC-4 Payroll and Related Records

OSHRC-5 Office of the General Counsel Records

OSHRC-6 Case Management/Tracking System

OSHRC-7 Personnel Security Records

OSHRC-8 Identification Card and Office Key Distribution Records

OSHRC-9 Visitors' Log Records

Government-Wide System-of-Records Notices

In addition to the internal systems of records described below, OSHRC also maintains certain records covered by government-wide systems of records. Government-wide systems of records are established by Federal agencies, such as the Office of Personnel Management (OPM) and the Government Accountability Office (GAO), responsible for government-wide functions. These systems are described in notices published by the establishing agency. While the establishing agency creates and administers the systems, the actual records are physically maintained at agencies throughout the government, such as OSHRC. Requests for OSHRC records covered by a government-wide system of records should be directed to OSHRC. In accordance with the directive of Office of Management and Budget (OMB) Circular No. A-130, OSHRC is not providing notice of internal systems of records that wholly or partly duplicate existing government-wide systems of records.

Blanket Routine Uses

In addition to the disclosures generally permitted under 5 U.S.C. 552a(b), including the specific routine uses set forth for each system of records, OSHRC may disclose a record or information in a Privacy Act system of records under 5 U.S.C. 552a in the following circumstances, provided that disclosure of the record or information is compatible with the purpose for which the record or information was collected.

(1) It shall be a blanket routine use of the records in OSHRC's systems of records to disclose them to the Department of Justice (DOJ), or to a court or adjudicative body before which OSHRC is authorized to appear, when:

(a) OSHRC, or any of its components; or

(b) Any employee of OSHRC in his or her official capacity; or

(c) Any employee of OSHRC in his or her individual capacity where the DOJ (or OSHRC where it is authorized to do so) has agreed to represent the employee; or

(d) The United States, where OSHRC determines that litigation is likely to affect OSHRC or any of its components, is a party to litigation or has an interest in such litigation, and OSHRC determines that the use of such records by DOJ, or by a court or other tribunal, or another party before such tribunal, is relevant and necessary to the litigation.

(2) In the event that a record in OSHRC's systems of records indicates on its face, or in conjunction with other information, a violation or potential violation of law, whether civil, criminal or regulatory in nature, and whether arising by general statute or order issued pursuant thereto, the relevant record may be referred, as a blanket routine use, to the appropriate agency, whether Federal, state, local, or foreign, charged with the responsibility of investigating or prosecuting such violation, or charged with enforcing or implementing the statute, or rule, regulation or order issued pursuant thereto.

(3) A record from an OSHRC system of records may be disclosed as a blanket routine use to a Federal, state or local agency maintaining civil, criminal or other relevant enforcement information, such as current licenses, if necessary to obtain information relevant to an OSHRC decision concerning the hiring, appointment, or retention of an employee; the issuance, renewal, suspension, or revocation of a security clearance; the execution of a security or suitability investigation; the letting of a contract; or the issuance of a license, grant or other benefit.

(4) In response to a request from a Federal, state, or local agency, a record from an OSHRC system of records may be disclosed as a blanket routine use to the requesting agency if the record is sought in connection with the hiring, appointment, or retention of an employee; the issuance, renewal, suspension, or revocation of a security clearance; the execution of a security or suitability investigation; the letting of a contract; or the issuance of a license, grant or other benefit by the requesting agency. Records will be disclosed only to the extent that the information is relevant and necessary to the requesting agency's decision in the matter.

(5) A record from an OSHRC system of records may be disclosed as a blanket routine use to an authorized appeal grievance examiner, formal complaints manager, equal employment opportunity investigator, arbitrator, or other duly authorized official engaged in investigation or settlement of a grievance, complaint, or appeal filed by an employee. Records will be disclosed only to the extent that the information is relevant and necessary to the case or matter.

(6) A record from an OSHRC system of records may be disclosed as a blanket routine use to OPM in accordance with the agency's responsibilities for evaluation and oversight of federal personnel management.

(7) A record from an OSHRC system of records may be disclosed as a blanket routine use to officers and employees of a Federal agency for the purpose of conducting an audit, but only to the extent that the record is relevant and necessary to this purpose.

(8) The information contained in an OSHRC system of records may be disclosed to the OMB in connection with the review of private relief legislation at any stage of the legislative coordination and clearance process, as set forth in Circular No. A-19.

(9) A record in an OSHRC system of records may be disclosed as a blanket routine use to a Member of Congress or to a person on his or her staff acting on the Member's behalf when a written request is made on behalf and at the behest of the individual who is the subject of the record.

(10) A record in an OSHRC system of records may be disclosed as a blanket routine use to the National Archives and Records Administration (NARA) for records management inspections and such other purposes conducted under the authority of 44 U.S.C. 2904 and 2906.

OSHRC-1

System Name:

Travel Records.

Security Classification:

None.

System Location:

Office of Administration, OSHRC, 1120 20th Street, NW., Ninth Floor, Washington, DC 20036-3457.

Categories of Individuals Covered by the System:

This system of records covers current and former OSHRC employees who have traveled pursuant to authorized official OSHRC business.

Categories of Records in the System:

This system of records includes travel expense records, such as vouchers and receipts, and records pertaining to destinations, itinerary, mode of transportation, purpose, and dates of travel. These records may reference an employee's name, mailing address, and social security number (as of May 2005, only the last four digits of an employee's social security number are printed on travel authorizations and vouchers).

Authority for Maintenance of the System:

5 U.S.C. 5701 et seq.; 29 U.S.C. 661; 44 U.S.C. 3101.

Purpose(s):

This system of records is maintained for the purposes of planning, authorizing, and tracking employees' official travel, and processing travel vouchers and other travel-related payments.

Routine Uses of Records Maintained in the System, Including Categories of Users and the Purposes of Such Uses:

See Blanket Routine uses.

Records disclosed to the Bureau of the Public Debt's Administrative Resource Center, the travel service provider under contract with OSHRC, are covered by GSA/GOVT-4, see 69 FR 75980, December 20, 2004. Records disclosed pursuant to the Travel Charge Card Program are covered by GSA/GOVT-3, see 69 FR 4517, January 30, 2004.

Disclosures to Consumer Reporting Agencies:

None.

Policies and Practices for Storing, Retrieving, Accessing, Retaining, and Disposing of Records in the System:

Storage:

Records are stored on paper in file cabinets.

Retrievability:

Records can be retrieved manually by name.

Retention and Disposal:

Records are retained and disposed of in accordance with NARA's General Records Schedule (GRS) requirements for travel records. See GRS 9, Items 3 and 4.

Safeguards:

Records are maintained in file cabinets. During duty hours, records are under surveillance of personnel charged with their custody, and after duty hours, the records are secured behind locked doors. Access to the cabinets is limited to personnel having a need for access to perform their official functions.

System Manager(s) And Address:

Administrative Assistant (Budget), Office of Administration, OSHRC, 1120 20th Street, NW., Ninth Floor, Washington, DC 20036-3457.

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Record Access Procedures:

Individuals who wish to gain access to their records should notify: Executive Director, OSHRC, 1120 20th Street, NW., Ninth Floor, Washington, DC 20036-3457. For an explanation on how such requests should be drafted, refer to 29 CFR 2400.6 (procedures for requesting records).

Contesting Record Procedures:

Individuals who wish to contest their records should notify: Executive Director, OSHRC, 1120 20th Street, NW., Washington, Ninth Floor, DC 20036-3457. For an explanation on the specific procedures for contesting the contents of a record, refer to 29 CFR 2400.7 (procedures for requesting amendment).

Record Source Categories:

Information in this system of records comes from the individual to whom it applies.

Exemptions Claimed for the System:

None.

OSHRC-2

System Name:

Mailing Lists for News Releases, Speeches, Booklets, Reports.

Security Classification:

None.

System Location:

Public Information Office, OSHRC, 1120 20th Street, NW., Ninth Floor, Washington, DC 20036-3457.

Categories of Individuals Covered by the System:

This system of records covers all persons who are sent information about OSHRC.

Categories of Records in the System:

This system of records contains individuals' addresses, business affiliations, and the information they desire to receive.

Authority for Maintenance of the System:

5 U.S.C. 301; 29 U.S.C. 661; 44 U.S.C. 3101.

Purpose(s):

This system of records is maintained for the purpose of disseminating information pertaining to OSHRC, such as information related to the hiring of personnel, case dispositions, procedures, speeches, and statistical reports.

Routine Uses of Records Maintained in the System, Including Categories of Users and the Purposes of Such Uses:

In addition to the Blanket Routine Uses discussed above, disclosures may be made to other Federal agencies, upon written request, if disclosure of the record or information is compatible with the purpose for which the record or information was collected. Under no circumstances, however, will OSHRC sell or rent an individual's name or address unless such action is specifically authorized by law, 5 U.S.C. 552a(n).

Disclosures to Consumer Reporting Agencies:

None.

Policies and Practices for Storing, Retrieving, Accessing, Retaining, and Disposing of Records in the System:

Storage:

Records are stored on paper in file cabinets and electronically on personal computers.

Retrievability:

Records can be retrieved manually and electronically by name.

Retention and Disposal:

Records are maintained indefinitely unless an individual requests that his or her reference be deleted, in which case the reference is disposed of immediately.

Safeguards:

Paper records are maintained in metal file cabinets. During duty hours, records are under surveillance of personnel charged with their custody, and after duty hours, records are secured behind locked doors. Access to the cabinets is limited to personnel having a need for access to perform their official functions. Electronic records are maintained on personal computers secured in offices under surveillance of personnel charged with custody of the records. After duty hours, personal computers are secured behind locked doors. Access to personal computers is limited to personnel having a need for access to perform their official functions and is additionally restricted through password identification procedures.

System Manager(s) and Address:

Public Information Officer, OSHRC, 1120 20th Street, NW., Ninth Floor, Washington, DC 20036-3457.

Record Access Procedures:

Individuals who wish to gain access to their records should notify: Executive Director, OSHRC, 1120 20th Street, NW., Ninth Floor, Washington, DC 20036-3457. For an explanation on how such requests should be drafted, refer to 29 CFR 2400.6 (procedures for requesting records).

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Contesting Record Procedures:

Individuals who wish to contest their records should notify: Executive Director, OSHRC, 1120 20th Street, NW., Ninth Floor, Washington, DC 20036-3457. For an explanation on the specific procedures for contesting the contents of a record, refer to 29 CFR 2400.7 (procedures for requesting amendment).

Record Source Categories:

Information in this system either comes from the individual to whom it applies or is derived from private source directories.

Exemptions Claimed For The System:

None.

OSHRC-3

System Name:

Public Transportation Benefit Program Records.

Security Classification:

None.

System Location:

Office of Administration, OSHRC, 1120 20th Street, NW., Ninth Floor, Washington, DC 20036-3457.

Categories of Individuals Covered by the System:

This system of records covers all employees enrolled in the Public Transit Subsidy Program.

Categories of Records in the System:

This system of records includes information submitted by current and former participants via the OSHRC Transit Form and Transportation Subsidy Application. These forms contain the employee's name and social security number. The system also contains certification forms used to document the disbursement of subsidies, which include the employee's name and signature, and the subsidy amount requested.

Authority for Maintenance of the System:

29 U.S.C. 661; Executive Order 13150.

Purpose(s):

This system of records is maintained for the purpose of documenting an employee's participation in the Public Transit Subsidy Program.

Routine Uses of Records Maintained in the System, Including Categories of Users and the Purposes of Such Uses:

In addition to the Blanket Routine Uses discussed above, pursuant to sections 5 and 10 of the Debt Collection Act of 1982, 5 U.S.C. 5514(a), as amended by the Debt Collection Improvement Act of 1996, 31 U.S.C. 3716, records relating to the implementation of the Act may be disclosed to other Federal agencies to effect salary or administrative offsets, or for other purposes connected with the collection of debts owed to the United States. Records may also be disclosed to provide information as necessary to other federal, state, local or foreign agencies conducting computer matching programs to help eliminate fraud and abuse and to detect unauthorized overpayments made to individuals. When disclosures are made as part of computer matching programs, OSHRC will comply with the Computer Matching and Privacy Protection Act of 1988, and the Computer Matching and Privacy Protections Amendments of 1990.

Disclosures to Consumer Reporting Agencies:

None.

Policies and Practices for Storing, Retrieving, Accessing, Retaining, and Disposing of Records in the System:

Storage:

Records are stored on paper in file cabinets.

Retrievability:

Records can be retrieved manually by name.

Retention and Disposal:

Records are retained and disposed of in accordance with NARA's GRS requirements for transportation subsidy records. See GRS 9, Item 7.

Safeguards:

Paper records are maintained in locked file cabinets. During duty hours, the records are under surveillance of personnel charged with their custody, and after duty hours, the records are secured behind locked doors. Access to the cabinets is limited to personnel having a need for access to perform their official functions.

System Manager(s) and Address:

Administrative Assistant (Budget), Office of Administration, OSHRC, 1120 20th Street, NW., Ninth Floor, Washington, DC 20036-3457.

Record Access Procedures:

Individuals who wish to gain access to their records should notify: Executive Director, OSHRC, 1120 20th Street, NW., Ninth Floor, Washington, DC 20036-3457. For an explanation on how such requests should be drafted, refer to 29 CFR 2400.6 (procedures for requesting records).

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Contesting Record Procedures:

Individuals who wish to contest their records should notify: Executive Director, OSHRC, 1120 20th Street, NW., Ninth Floor, Washington, DC 20036-3457. For an explanation on the specific procedures for contesting the contents of a record, refer to 29 CFR 2400.7 (procedures for requesting amendment).

Record Source Categories:

Information in this system of records comes from applicants to, and current and former participants in, the Public Transit Subsidy Program.

Exemptions Claimed for the System:

None.

OSHRC-4

System Name:

Payroll and Related Records.

Security Classification:

None.

System Location:

(1) Paper files and electronic files are maintained by various offices within OSHRC, including the Office of the Executive Secretary, the Office of Administration, the Office of the Chief Administrative Law Judge, and the Office of the General Counsel, located at 1120 20th Street, NW., Ninth Floor, Washington, DC 20036-3457; and OSHRC offices located at 100 Alabama Street, SW., Building 1924, Room 2R90, Atlanta, GA 30303-3104, and 1244 North Speer Boulevard, Room 250, Denver, CO 80204-3582. (2) Pursuant to an interagency agreement, records are also located at the U.S. Department of Agriculture, National Finance Center (NFC), P.O. Box 60000, New Orleans, LA 70160-0001.

Categories of Individuals Covered by the System:

This system of records covers current and former employees of OSHRC and Commission members.

Categories of Records in the System:

The records maintained in this system, and the categories of records referenced therein, are as follows. (1) Time and attendance sheets include the employee's name and social security number; the employee's and timekeeper's initials and the supervisor's signature; the timekeeper's Time and Attendance contact point; the number of hours worked by the employee during each pay period; and the amount of leave accrued and used during the pay period, and the total amount of leave available to the employee. (2) Flexitime sign-in reports include the employee's name, and the time at which the employee starts and leaves work each day during the pay period. (3) Records pertaining to requests for leave or an approved absence include the employee's name, the date(s) for which leave is requested, the type of leave requested, the purpose for using sick leave (examination, care of family member or bereavement, or other), and whether leave is used pursuant to the Family Medical Leave Act. (4) Direct deposit records include the employee's name and signature, address, and telephone number; the type of depositor account selected for direct deposit, and the account and routing numbers; and a voided check. (5) Tax records include the employee's name and signature, social security number, marital status, and address; the number of allowances for which the employee qualifies; and further information which may be required on state, county, or city withholding certificates. And (6) other records related to payroll, such as those pertaining to deductions (e.g., Combined Federal Campaign Designations), may include some or all of the information specified above.

Authority for Maintenance of the System:

5 U.S.C. 301, 5516, 5517, 5520; 26 U.S.C. 6011, 6109; 29 U.S.C. 661; 44 U.S.C. 3101.

Purpose(s):

Records are used by OSHRC and NFC employees to maintain adequate payroll information for OSHRC employees and Commission members.

Routine Uses of Records Maintained in the System, Including Categories of Users and the Purposes of Such Uses:

The following routine uses may result in disclosures of records maintained in this system:

1. See Blanket Routine Uses.

2. Records may be disclosed to the Internal Revenue Service (IRS) for investigation, and to private attorneys, pursuant to a power of attorney.

3. A copy of an employee's Department of the Treasury Form W-2, Wage and Tax Statement, may be disclosed to the IRS.

4. A copy of an employee's Form W-2 may be disclosed to state, city, or other local jurisdictions which are authorized to tax the employee's compensation. The record will be provided in accordance with a withholding agreement between the state, city, or other local jurisdiction and the Department of the Treasury pursuant to 5 U.S.C. 5516, 5517, and 5520, or in response to a written request from an appropriate official of the taxing jurisdiction. The request must include a copy of the applicable statute or ordinance authorizing the taxation of compensation and should indicate whether the authority of the jurisdiction to tax the employee is based on place of residence, place of employment, or both.

5. Pursuant to a withholding agreement between a city and the Department of the Treasury (5 U.S.C. 5520), copies of executed city tax withholding certifications shall be furnished the city in response to written requests from an appropriate city official to the Office of Administration.

6. Records may be disclosed to NFC to effect issuance of paychecks or electronic fund transfers (EFT) to employees, and distribution of allotments and deductions to financial and other institutions, and for other authorized purposes.

7. Records may be disclosed to the Thrift Savings Board to update Section 401K type records and benefits; to the Social Security Administration to establish social security records and benefits; to the Department of Labor to process workmen's compensation claims; to the Department of Defense to adjust military retirement; to employee unions to credit accounts for employees with union dues deductions; to health insurance carriers to process insurance claims; and to the Department of Veterans Affairs for the purpose of evaluating veteran's benefits to which the individual may be entitled.

8. Pursuant to sections 5 and 10 of the Debt Collection Act of 1982, as amended by the Debt Collection Improvement Act of 1996, records relating to the implementation of the Act may be disclosed to other federal agencies to effect salary or administrative offsets, or for other purposes connected with the collection of debts owed to the United States, see 5 U.S.C. 5514(a); 5 U.S.C. 3716.

9. Records may be disclosed to provide information as necessary to other federal, state, local or foreign agencies conducting computer matching programs to help eliminate fraud and abuse and to detect unauthorized overpayments made to individuals. When disclosures are made as part of computer matching programs, OSHRC will comply with the Computer Matching and Privacy Protection Act of 1988, and the Computer Matching and Privacy Protections Amendments of 1990.

10. The names, social security numbers, home addresses, dates of birth, dates of hire, quarterly earnings, employer identifying information, and state of hire of employees may be disclosed to the Office of Child Support Enforcement, Administration for Children and Families, Department of Health and Human Services for the purpose of locating individuals to establish paternity, identifying sources of income, and for other child support enforcement actions as required by the Personal Responsibility and Work Opportunity Reconciliation Act of 1996, 42 U.S.C. 653(n).

Disclosures to Consumer Reporting Agencies:

Disclosures may be made from this system to “consumer reporting agencies” as defined in the Fair Credit Reporting Act (15 U.S.C. 1681a(f)) or the Federal Claims Collection Act of 1966 (31 U.S.C. 3701(a)(3)) in accordance with 31 U.S.C. 3711(f).

Policies and Practices for Storing, Retrieving, Accessing, Retaining, and Disposing of Records in the System:

Storage:

Records are stored on paper in file cabinets and electronically at OSHRC's Denver, Atlanta, and Washington, DC offices. Records are also stored electronically at NFC; backups of these records are stored on floppy disks, which are maintained with the paper records in the file cabinets.

Retrievability:

Records are retrieved manually and electronically by name and/or social security number.

Retention and Disposal:

Records are retained and disposed of in accordance with NARA's GRS requirements for payroll-related records. See GRS 2.

Safeguards:

Paper records are maintained in file cabinets. During duty hours, the records are under surveillance of personnel charged with their custody, and after duty hours, the records are secured behind locked doors. Access to the cabinets is limited to personnel having a need for access to perform their official functions. Electronic records are maintained by OSHRC on personal computers, which are secured in offices under surveillance of personnel charged with custody of the records.

OSHRC sends time and attendance information electronically to its contractor, NFC, which is located in a secured federal complex. Within this secured building, the Computer Operations Center is located in a controlled access room. Specific employees have been identified as system and database administrators having specific responsibilities allowing access to OSHRC personnel and payroll data. Security is embedded within the software in both the operating system and at the application level. Individuals not granted access rights cannot view or change data. The database is monitored by software applications that provide audits of log-ins, both successful and failed. Backups of the information provided to NFC may also be stored on floppy disks, which are maintained with the paper records in the file cabinets at OSHRC.

System Manager(s) and Address:

Personnel Management Specialist, OSHRC, 1120 20th Street, NW., Ninth Floor, Washington, DC 20036-3457.

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Record Access Procedures:

Individuals who wish to gain access to their records should notify: Executive Director, OSHRC, 1120 20th Street, NW., Ninth Floor, Washington, DC 20036-3457. For an explanation on how such requests should be drafted, refer to 29 CFR 2400.6 (procedures for requesting records).

Contesting Record Procedures:

Individuals who wish to contest their records should notify: Executive Director, OSHRC, 1120 20th Street, NW., Ninth Floor, Washington, DC 20036-3457. For an explanation on the specific procedures for contesting the contents of a record, refer to 29 CFR 2400.7 (procedures for requesting amendment).

Record Source Categories:

Information in this system either comes from the individual to whom it applies or is derived from information compiled by OSHRC employees performing administrative duties.

Exemptions Claimed for the System:

None.

OSHRC-5

System Name:

Office of the General Counsel Records.

Security Classification:

None.

System Location:

Office of the General Counsel (OGC), OSHRC, 1120 20th Street, NW., Ninth Floor, Washington, DC 20036-3457.

Categories of Individuals Covered by the System:

This system of records covers OSHRC attorneys (including supervising attorneys); Commission members; Administrative Law Judges (ALJs); Freedom of Information Act requesters; and parties in cases that have been, or presently are, before OSHRC.

Categories of Records in the System:

This system of records contains cases and other matters before OSHRC that have been assigned to OGC for processing. A pending case list is maintained that references the case name; the case docket number; OSHRC attorneys (including supervising attorneys) who most recently have been assigned to work on the case; and the most recent dates of the various stages in the progress of the case, starting with assignment to OGC and ending with issuance of a decision. Additional records relevant to cases that are, or were, pending before OSHRC may reference the aforementioned personal identifying information, as well as the names of Commission members and ALJs. Finally, records may also reference the names of individuals relevant to matters unrelated to OSHRC cases, such as FOIA requesters.

Authority for Maintenance of the System:

5 U.S.C. 301; 29 U.S.C. 661; 44 U.S.C. 3101.

Purpose(s):

This system of records is maintained to assist management in making decisions with respect to case processing activities, and other matters, such as FOIA requests; and to assist OSHRC attorneys in organizing their work product.

Routine Uses of Records Maintained in the System, Including Categories of Users and the Purposes of Such Uses:

See Blanket Routine Uses.

Disclosures To Consumer Reporting Agencies:

None.

Policies and Practices for Storing, Retrieving, Accessing, Retaining, and Disposing of Records in the System:

Storage:

Pending case lists are maintained on personal computers and on paper in report form in file cabinets. Other records in this system are maintained electronically on personal computers.

Retrievability:

Pending case lists may be retrieved manually and electronically by case name, docket number, date of case activity, or name of attorney or supervising attorney. Other records may be retrieved electronically by case name, by the Commission member's or ALJ's name, or by the names of other individuals, such as FOIA requesters.

Retention and Disposal:

Records are maintained indefinitely on personal computers, and paper reports generated from the system are kept for as long as needed for case management purposes.

Safeguards:

Paper records are maintained in file cabinets. During duty hours, the records are under surveillance of personnel charged with their custody, and after duty hours, the records are secured behind locked doors. Access to the cabinets is limited to personnel having a need for access to perform their official functions. Electronic records are maintained on personal computers secured in offices under surveillance of personnel charged with custody of the records. After duty hours, personal computers are secured behind locked doors. Access to personal computers is limited to personnel having a need for access to perform their official functions and is additionally restricted through password identification procedures.

System Manager(S) and Address:

Office of the General Counsel, OSHRC, 1120 20th Street, NW., Ninth Floor, Washington, DC 20036-3457.

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Record Access Procedures:

Individuals who wish to gain access to their records should notify: Executive Director, OSHRC, 1120 20th Street, NW., Ninth Floor, Washington, DC 20036-3457. For an explanation on how such requests should be drafted, refer to 29 CFR 2400.6 (procedures for requesting records).

Contesting Record Procedures:

Individuals who wish to contest their records should notify: Executive Director, OSHRC, 1120 20th Street, NW., Ninth Floor, Washington, DC 20036-3457. For an explanation on the specific procedures for contesting the contents of a record, refer to 29 CFR 2400.7 (procedures for requesting amendment).

Record Source Categories:

Information in this system is derived from the individual to whom it applies or is derived from case processing records maintained by the Office of the Executive Secretary and the Office of the General Counsel.

Exemptions Claimed for the System:

None.

OSHRC-6

System Name:

Case Management/Tracking System.

Security Classification:

None.

System Location:

Electronic records are maintained by the Information Technology Office, and paper records are maintained by the Office of the Executive Secretary, both of which are located at 1120 20th Street, NW., Ninth Floor, Washington, DC 20036-3457.

Categories of Individuals Covered by the System:

This system of records covers (1) ALJs; (2) Commission members; (3) representatives, and parties in cases that have been, or presently are, before OSHRC.

Categories of Records in the System:

The case tracking system contains the following information in its electronic database: (1) The names, office telephone numbers, and/or office addresses of those covered by the system of records; (2) the names of OSHRC cases, and information associated with the cases, such as the inspection number, the docket number, the state in which the action arose, and the names of the representatives; (3) events occurring in cases and the dates on which the events occurred; and (4) documents filed in cases and the dates on which the documents were filed. Although the electronic records also include the names of OSHRC employees who enter each case record, and the date each record is initially entered and last modified, the names of these employees cannot be retrieved using their personal identifiable information.

Case files contain hard copies of the documents referenced in the tracking system. Various paper and electronic administrative records pertaining to the case files may reference docket numbers and the names or initials of employees.

Authority for Maintenance of the System:

29 U.S.C. 661.

Purpose:

This system of records is maintained for the purpose of processing cases that are before OSHRC.

Routine Uses of Records Maintained in the System, Including Categories of Users and the Purposes of Such Uses:

In addition to the Blanket Routine Uses discussed above, when considered appropriate, records in this system may be referred to a bar association or similar federal, state, or local licensing authority for a possible disciplinary action. Also, in accordance with 29 U.S.C. 661(g), OSHRC's case files may be disclosed to the public for the purpose of inspecting and/or copying the records.

Disclosures to Consumer Reporting Agencies:

None.

Policies and Practices for Storing, Retrieving, Accessing, Retaining, and Disposing of Records in the System:

Storage:

Electronic records contained in the case tracking system are stored on a computer file server. Paper records and other electronic records are stored in the records room, in file cabinets, and on personal computers.

Retrievability:

Electronic records contained in the case tracking system may be retrieved by docket number, inspection number, or state, or by any part of a representative's name or the case name. Case files may be retrieved manually by docket number, and related electronic and paper records may be retrieved electronically or manually by name and/or docket number.

Retention and Disposal:

Electronic records contained in the case tracking system are maintained indefinitely on a computer file server. Other electronic and paper records are maintained in accordance with the General Record Schedule.

Safeguards:

The computer file server is located in a locked room which requires a coded password for access. Access to the server is limited to personnel having a need for access to perform their official functions. In addition, server access requires network authentication at the server and application levels.

Paper records are maintained in a records room that can only be accessed using a smartcard or a key. Some paper records are also maintained in file cabinets. During duty hours, these records are under surveillance of personnel charged with their custody, and after duty hours, the records are secured behind locked doors. Access to the cabinets is limited to personnel having a need for access to perform their official functions.

Some electronic records are maintained on personal computers secured in offices under surveillance of personnel charged with custody of the records. After duty hours, personal computers are secured behind locked doors. Access to personal computers is limited to personnel having a need for access to perform their official functions and is additionally restricted through password identification procedures.

System Manager(s) and Address:

Information Technology Specialist (case tracking system records) and the Executive Secretary (all other records), 1120 20th Street, NW., Ninth Floor, Washington, DC 20036-3457.

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Record Access Procedures:

Individuals who wish to gain access to their records should notify: Executive Director, OSHRC, 1120 20th Street, NW., Ninth Floor, Washington, DC 20036-3457. For an explanation on how such requests should be drafted, refer to 29 CFR 2400.6 (procedures for requesting records).

Contesting Record Procedures:

Individuals who wish to contest their records should notify: Executive Director, OSHRC, 1120 20th Street, NW., Ninth Floor, Washington, DC 20036-3457. For an explanation on the specific procedures for contesting the contents of a record, refer to 29 CFR 2400.7 (procedures for requesting amendment).

Record Source Categories:

Information in this system is derived from the individual to whom it applies or is derived from case processing records maintained by the Office of the Executive Secretary and the Office of the General Counsel, or from information provided by the parties who appear before OSHRC.

Exemptions Claimed for the System:

None.

OSHRC-7

System Name:

Personnel Security Records.

Security Classification:

None.

System Location:

The Office of the Administrator at each OSHRC location maintains the records for its employees and contractors. The central office is located at 1120 20th Street, NW., Ninth Floor, Washington, DC 20036-3457. The branch offices are located at 100 Alabama Street, SW., Building 1924, Room 2R90, Atlanta, GA 30303-3104; and 1244 North Speer Boulevard, Room 250, Denver, CO 80204-3582.

Categories of Individuals Covered by the System:

This system of records covers individuals who require long-term access to federally controlled buildings and federally controlled information systems. Specifically, the categories of individuals covered by this system of records include: (1) Federal employees, as defined under 5 U.S.C. 2105, within OSHRC; (2) individuals employed by, detailed to, or assigned to OSHRC; (3) short-term employees of OSHRC, whose terms are for 6 or more months; and (4) individuals under contract to OSHRC, requiring routine access to OSHRC's federally controlled facilities and/or federally controlled information systems.

Federally controlled buildings are defined in FIPS 201 as: (1) Federally owned buildings or leased space, whether for single or multi-tenant occupancy, and its grounds and approaches, all or any of which is under the jurisdiction, custody or control of a department or agency covered by HSPD 12; and (2) federally controlled commercial space shared with non-government tenants. Federally controlled information systems are defined by the Federal Security Management Act of 2002, 44 U.S.C. 3544(a)(1)(A)(ii), as “[i]nformation systems used or operated by an agency or by a contractor of an agency or other organization on behalf of an agency.”

Categories of Records in the System:

This system of records contains a form, titled “Personal Identity Verification (PIV) Request for OSHRC Credential,” on which information relevant to the credentialing process is recorded. The form includes the following information about the individual being credentialed: (1) Name; (2) country of citizenship; (3) phone number; (4) birth date; (5) hair color, eye color, height, weight, and gender; (6) employment position (or position to which individual is to be hired) and work address; (7) e-mail address; (8) information gathered from identity source documents, including the name on the documents, the document numbers, the document titles, the issuers, and the expiration dates; and (9) the name, identifier, and expiration date on the credential issued by OSHRC. The form also includes the signature of the individual being credentialed, and the names, phone numbers, e-mail addresses, and signatures of the various OSHRC employees responsible for sponsoring, registering, and issuing the credential.

The system of records also contains a passport-sized color photograph of each credentialed individual. And, once a National Agency Check with Written Inquiries (NACI) has been completed, a copy of the OFI-79A, which may include information regarding a credentialed individual's criminal history, is included in the system of records.

Other security forms, such as the Standard Form 85 and a fingerprint chart, are completed by each credentialed individual. However, these forms are forwarded to the Office of Personnel Management (OPM) by overnight/FedEx or by certified mail, return receipt requested, and copies of these forms will not be maintained in the system of records. Accordingly, these records are covered by OPM's notice for OPM/CENTRAL-9, Personnel Investigations Records, see 58 FR 19154, 19184, Apr. 12, 1993, and not by the instant notice.

Authority for Maintenance of the System:

Executive Orders 10450 and 10577; Homeland Security Presidential Directive (HSPD) 12; Federal Information Processing Standard Publication (FIPS) 201; and OMB Memorandum M-05-24.

Purpose(s):

The categories of records contained in the system must be collected pursuant to the policy that OSHRC has developed to comply with HSPD 12. The purpose of this policy is to create a “reliable, government-wide PIV system for use in applications such as access to federally controlled facilities and information systems.” See FIPS 201 sec. 1.1.

The specific information collected by OSHRC allows OPM to conduct NACIs on those individuals being credentialed, assists OSHRC in verifying the identity of those for whom credentials have been requested, and provides OSHRC the necessary information to issue identification cards.

Routine Uses of Records Maintained in the System, Including Categories of Users and the Purposes of Such Uses:

See Blanket Routine Uses.

Disclosure to Consumer Reporting:

Not applicable.

Policies and Practices for Storing, Retrieving, Accessing, Retaining, and Disposing of Records in the System:

Storage:

Records are stored on paper in a file cabinet.

Retrievability:

Records are retrievable by an individual's identification card number.

Safeguards:

Records are maintained in a file cabinet. During duty hours, the records are under surveillance of personnel charged with their custody, and after duty hours, the records are secured behind locked doors. Access to the cabinet is limited to personnel having a need for access to perform their official functions.

Retention and Disposal:

Records are retained and disposed of in accordance with NARA's GRS requirements for personnel security clearance files. See GRS 18, Item 22.

System Manager(s) and Address:

The Contracting Officer at the following OSHRC locations: 1120 20th Street, NW., Ninth Floor, Washington, DC 20036-3457; 100 Alabama Street, SW., Building 1924, Room 2R90, Atlanta, GA 30303-3104; and 1244 North Speer Boulevard, Room 250, Denver, CO 80204-3582.

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Record Access Procedures:

Individuals who wish to gain access to their records should notify: Executive Director, OSHRC, 1120 20th Street, NW., Ninth Floor, Washington, DC 20036-3457. For an explanation on how such requests should be drafted, refer to 29 CFR 2400.6 (procedures for requesting records).

Contesting Record Procedures:

Individuals who wish to contest their records should notify: Executive Director, OSHRC, 1120 20th Street, NW., Ninth Floor, Washington, DC 20036-3457. For an explanation on the specific procedures for contesting the contents of a record, refer to 29 CFR 2400.7 (procedures for requesting amendment).

Record Source Categories:

Information contained in the system is obtained from individuals subject to the credentialing process, OSHRC employees involved in the credentialing process, and investigative record materials furnished by OPM.

Exemptions Claimed for the System:

None.

OSHRC-8

System Name:

Identification Card and Office Key Distribution Records.

Security Classification:

None.

System Location:

The Office of Administration at each OSHRC location maintains the records for its employees and contractors. The central office is located at 1120 20th Street, NW., Ninth Floor, Washington, DC 20036-3457. The branch offices are located at 100 Alabama Street, SW., Building 1924, Room 2R90, Atlanta, GA 30303-3104; and 1244 North Speer Boulevard, Room 250, Denver, CO 80204-3582.

Categories of Individuals Covered by the System:

This system of records covers individuals who require long-term access to federally controlled buildings. Specifically, the categories of individuals covered by this system of records include: (1) Federal employees, as defined under 5 U.S.C. 2105, within OSHRC; (2) individuals employed by, detailed to, or assigned to OSHRC; (3) short-term employees of OSHRC, whose terms are for 6 or more months; and (4) individuals under contract to OSHRC, requiring routine access to OSHRC's federally controlled facilities.

Federally controlled buildings are defined in FIPS 201 as: (1) Federally owned buildings or leased space, whether for single or multi-tenant occupancy, and its grounds and approaches, all or any of which is under the jurisdiction, custody or control of a department or agency covered by HSPD 12; and (2) federally controlled commercial space shared with non-government tenants.

Categories of Records in the System:

This system of records contains the following information regarding each identification card issued: (1) The name of the individual identified on the card; (2) the identification number associated with the card (the cards are numbered sequentially, starting at “1”); (3) the dates on which the card was issued and, if applicable, destroyed; and (4) whether the card was issued as a replacement. The system also contains a list of all individuals who possess keys to OSHRC facilities. Finally, the system contains memoranda verifying which identification cards have been lost or stolen, and who has been issued a replacement office key.

Authority for Maintenance of the System:

Federal Property and Administrative Services Act of 1949, 40 U.S.C. 121(c); HSPD 12; FIPS 201; and OMB Memorandum M-05-24.

Purpose(s):

The categories of records contained in the system must be collected pursuant to the policy that OSHRC has developed to comply with HSPD 12. The purpose of this policy is to create a “reliable, government-wide PIV system for use in applications such as access to federally controlled facilities and information systems.” See FIPS 201 sec. 1.1.

The system of records assists OSHRC in (1) restricting access to OSHRC facilities, (2) ensuring positive identification of those who are permitted access, (3) maintaining a record of all holders of identification cards, and (4) identifying lost or stolen cards.

Routine Uses of Records Maintained in the System, Including Categories of Users and the Purposes of Such Uses:

See Blanket Routine Uses.

Disclosure to Consumer Reporting Agencies:

Not applicable.

Policies and Practices for Storing, Retrieving, Accessing, Retaining, and Disposing of Records in the System:

Storage:

Records are stored on paper in a file cabinet.

Retrievability:

Records are retrievable by (1) an individual's name, (2) the identification card number, and/or (3) the date on which the card was issued or destroyed.

Safeguards:

Records are maintained in a file cabinet. During duty hours, the records are under surveillance of personnel charged with their custody, and after duty hours, the records are secured in a locked file cabinet behind locked doors. Access to the cabinet is limited to personnel having a need for access to perform their official functions.

Retention and Disposal:

The records will be maintained until they are superseded or obsolete.

System Manager(s) and Address:

The Contracting Officer at the following OSHRC locations: 1120 20th Street, NW., Ninth Floor, Washington, DC 20036-3457; 100 Alabama Street, SW., Building 1924, Room 2R90, Atlanta, GA 30303-3104; and 1244 North Speer Boulevard, Room 250, Denver, CO 80204-3582.

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Record Access Procedures:

Individuals who wish to gain access to their records should notify: Executive Director, OSHRC, 1120 20th Street, NW., Ninth Floor, Washington, DC 20036-3457. For an explanation on how such requests should be drafted, refer to 29 CFR 2400.6 (procedures for requesting records).

Contesting Record Procedures:

Individuals who wish to contest their records should notify: Executive Director, OSHRC, 1120 20th Street, NW., Ninth Floor, Washington, DC 20036-3457. For an explanation on the specific procedures for contesting the content of a record, refer to 29 CFR 2400.7 (procedures for requesting amendment).

Record Source Categories:

Information contained in the system is obtained from individuals who have been issued OSHRC identification cards or office keys.

Exemptions Claimed for the System:

None.

OSHRC-9

System Name:

Visitors' Log Records.

Security Classification:

None.

System Location:

Office of Administration, OSHRC, 1120 20th Street, NW., Ninth Floor, Washington, DC 20036-3457.

Categories of Individuals Covered by the System:

This system of records covers all individuals entering OSHRC offices who lack the proper credentials to enter without notifying OSHRC personnel.

Categories of Records in the System:

This system of records includes the name of the visitor, the date of the visit, the company represented by the visitor, the arrival and departure times, the purpose of the visit, and the identity of the OSHRC escort.

Authority for Maintenance of the System:

Federal Property and Administrative Services Act of 1949, 40 U.S.C. 121(c).

Purpose(s):

This system of records assists OSHRC in identifying each person who visits an OSHRC facility, and in restricting access based on his or her purpose for visiting the facility.

Routine Uses of Records Maintained in the System, Including Categories of Users and the Purposes of Such Uses:

See Blanket Routine Uses.

Disclosures to Consumer Reporting Agencies:

None.

Policies and Practices for Storing, Retrieving, Accessing, Retaining, and Disposing of Records in the System:

Storage:

Records are stored on paper in binders.

Retrievability:

Records can be retrieved manually by name or date.

Retention and Disposal:

Records are retained and disposed of in accordance with NARA's GRS requirements for visitor control files. See GRS 18, Item 17.

Safeguards:

Records are maintained in a binder placed on the front desk. During duty hours, the binder is under surveillance of personnel occupying the front desk. After duty hours, the front desk can be accessed only by those who possess an office key or smartcard.

System Manager(s) and Address:

Office of Administration, OSHRC, 1120 20th Street, NW., Ninth Floor, Washington, DC 20036-3457.

Record Access Procedures:

Individuals who wish to gain access to their records should notify: Executive Director, OSHRC, 1120 20th Street, NW., Ninth Floor, Washington, DC 20036-3457. For an explanation on how such requests should be drafted, refer to 29 CFR 2400.6 (procedures for requesting records).

Notification Procedure:

Individuals interested in inquiring about their records should notify: Executive Director, OSHRC, 1120 20th Street, NW., Ninth Floor, Washington, DC 20036-3457. For an explanation on how such requests should be drafted, refer to 29 CFR 2400.5 (notification), and 29 CFR 2400.6 (procedures for requesting records).

Contesting Record Procedures:

Individuals who wish to contest their records should notify: Executive Director, OSHRC, 1120 20th Street, NW., Ninth Floor, Washington, DC 20036-3457. For an explanation on the specific procedures for contesting the contents of a record, refer to 29 CFR 2400.7 (procedures for requesting amendment).

Record Source Categories:

Information in this system of records comes from the individual to whom the record pertains.

Exemptions Claimed for the System:

None.

Dated: April 6, 2006.
W. Scott Railton,
Chairman.

[FR Doc. E6-5541 Filed 4-13-06; 8:45 am]

BILLING CODE 7600-01-P